DEPARTMENT OF HOMELAND SECURITY

Coast Guard

33 CFR Part 117

[Docket No. USCG-2018-0091]

Drawbridge Operation Regulation; Petaluma River, Haystack Landing (Petaluma), CA

AGENCY: Coast Guard, DHS.

ACTION: Notice of temporary deviation from regulations; request for comments.

SUMMARY: The Coast Guard has issued a temporary deviation from the operating schedule that governs the Northwestern Pacific (SMART) railroad bridge across the Petaluma River, mile 12.4, at Haystack Landing (Petaluma), CA. This deviation will test a change to the drawbridge operation schedule to determine whether a permanent change to the schedule is appropriate. This test deviation will modify the existing regulation to add an advance notification requirement for obtaining bridge openings.

DATES: This deviation is effective from 6 a.m. on March 19, 2018 to 6 a.m. on June 17, 2018.

Comments and related materials must reach the Coast Guard on or before July 2, 2018.

ADDRESSES: You may submit comments identified by docket number USCG-2018-0091 using Federal eRulemaking Portal at http://www.regulations.gov.

See the “Public Participation and Request for Comments” portion of the SUPPLEMENTARY INFORMATION section below for instructions on submitting comments.

FOR FURTHER INFORMATION CONTACT: If you have questions on this test deviation, call or email Carl T. Hausner, Chief, Bridge Section, Eleventh Coast Guard District; telephone 510-437-3516; email Carl.T.Hausner@uscg.mil.

SUPPLEMENTARY INFORMATION:

I. Background, Purpose and Legal Basis

Sonoma-Marin Area Rail Transit (SMART) owns the Northwestern Pacific railroad bridge across the Petaluma River, mile 12.4, at Haystack Landing (Petaluma), CA. The bridge has a vertical clearance of 3.6 feet above mean high water in the closed-to-navigation position and unlimited vertical clearance in the open-to-navigation position, and currently operates under 33 CFR 117.187(a).

In 2015, SMART replaced the original swing bridge with a single leaf bascule bridge. Prior to 2015, the swing bridge was rarely used and was maintained in the fully open position. Commuter rail service began on August 25, 2017. Currently 32 trains cross the bridge each day. The Petaluma River supports commercial and recreational traffic. Due to an increase in said rail traffic, SMART has requested the drawspan remain in the closed-to-navigation position to avoid unnecessary bridge openings. The Coast Guard is publishing this temporary deviation to test the proposed schedule change SMART has requested to determine whether a permanent change to the schedule is appropriate to better balance the needs of marine and rail traffic.

Under this temporary deviation, in effect from 6 a.m. on March 19, 2018 to 6 a.m. on June 17, 2018, the bridge shall open on signal from 3 a.m. to 11 p.m. if at least 2 hours notice is given to the drawtender. At all other times, the draw shall be maintained in the fully open position, except for the passage of trains or for maintenance. To request an opening, mariners can contact the drawtender via marine radio VHF-FM channel 16/9 or by telephone at (707) 890-8650. Vessels able to pass through the bridge in the closed position may do so at anytime. The bridge will be required to open as soon as practicable for vessels engaged in emergency response. SMART will log dates and times of vessels requesting openings. There are no alternate routes for vessels transiting upstream of the bridge on the Petaluma River.

The Coast Guard will also inform the users of the waterways through our Local and Broadcast Notices to Mariners and through direct outreach to local harbors, marinas, and water-based business of the temporary change in the operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and materials received during the comment period. Your comments can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this document as being available in this docket and all public comments, will be in our online docket at http://www.regulations.gov and can be viewed by following that website's instructions. Additionally, if you go to the online docket and sign up for email alerts, you will be notified when comments are posted or a final rule is published.

Dated: February 26, 2018.
Carl T. Hausner,
District Bridge Chief, Eleventh Coast Guard District.

[FR Doc. 2018-04251 Filed 3-1-18; 8:45 am]

BILLING CODE 9110-04-P